DEPARTMENT OF THE INTERIOR

Bureau of Land Management

[CO-921-06 1320-EL; COC 70127]

Notice of Invitation for Coal Exploration License Application, Colorado

AGENCY: Bureau of Land Management, Interior.

ACTION: Notice of Invitation for Coal Exploration License Application, Bowie Resources, LLC, COC 70127, Colorado.

SUMMARY: Pursuant to the Mineral Leasing Act of February 25, 1920, as amended by Section 4 of the Federal Coal Leasing Amendments Act of 1976, 90 Stat. 1083, 30 U.S.C. 201(b), and to Title 43, Code of Federal Regulations, Subpart 3410, all interested qualified parties, as provided in 43 CFR 3472.1 are hereby invited to participate with Bowie Resources, LLC, on a pro rata sharing basis in a program for the exploration of coal deposits owned by the United States of America containing the following described lands in Delta County, Colorado.

T. 12 S., R. 91 W., 6th P.M.

sec. 27, SWSW;

sec. 28, S2;

sec. 33, N2NE, and NENW;

sec. 34, NWNW.

The area described contains approximately 520 acres.

DATES: Written Notice of Intent to Participate in Exploration License COC 70127 should be addressed to the attention of the following persons and must be received by them by 30 days after publication of this Notice of Invitation in the Federal Register.

ADDRESSES: Karen Zurek, CO-921, Solid Minerals Staff, Division of Energy, Lands and Minerals, Colorado State Office, Bureau of Land Management, 2850 Youngfield Street, Lakewood, Colorado 80215; and Bowie Resources, LLC, P.O. Box 483, Paonia, Colorado 81428.

FOR FURTHER INFORMATION CONTACT: Karen Zurek at (303) 239-3795.

SUPPLEMENTARY INFORMATION: The application for coal exploration license is available for public inspection during normal business hours under serial number COC 70127 at the Bureau of Land Management, Colorado State Office, 2850 Youngfield Street, Lakewood, Colorado 80215, and at the Uncompahgre Field Office, 2505 South Townsend Avenue, Montrose, Colorado 81401. The proposed exploration program is fully described and will be conducted pursuant to an exploration plan to be approved by the Bureau of Land Management. The authority for this notice is 43 CFR 3410.2-1(c)(1).

Karen Zurek,
Solid Minerals Staff, Division of Energy, Lands and Minerals.

[FR Doc. E6-12440 Filed 8-1-06; 8:45 am]

BILLING CODE 4310-JB-P